NATIONAL CREDIT UNION ADMINISTRATION

Sunshine Act Meeting; Notice of Change in Subject of Meeting

The National Credit Union Administration Board determined that its business required the addition of the following item to the previously announced closed meeting (Federal Register, Vol. 71, No. 29, page 7592, February 13, 2006) scheduled for Thursday, February 16, 2006.

One (1) Personal Matter: Closed pursuant to Exemptions (2) and (6).

The Board voted unanimously that agency business required that this item be added to the closed agenda. Earlier announcement of this change was not possible.

The previously announced items were:

1. Administrative Action under Section 206(h)(1)(A) of the Federal Credit Union Act. Closed pursuant to Exemptions (8), (9)(A)(ii), and (9)(B).

2. Request from a Corporate Federal Credit Union to Amend its Existing Waiver under Part 704 of NCUA's Rules and Regulations. Closed pursuant to Exemption (8).

FOR FURTHER INFORMATION CONTACT: Mary Rupp, Secretary of the Board, Telephone (703) 518-6304.

Mary Rupp,
Secretary of the Board.

[FR Doc. 06-1454 Filed 2-13-06; 1:07 pm]

BILLING CODE 7535-01-M